DEPARTMENT OF TRANSPORTATION

Federal Aviation Administration

14 CFR Part 39

[Docket No. FAA-2007-0301; Directorate Identifier 2007-NM-069-AD; Amendment 39-15300; AD 2007-25-18]

RIN 2120-AA64

Airworthiness Directives; Boeing Model 747-400 and 747-400D Series Airplanes

AGENCY: Federal Aviation Administration (FAA), Department of Transportation (DOT).

ACTION: Final rule; request for comments.

SUMMARY: The FAA is adopting a new airworthiness directive (AD) for certain Boeing Model 747-400 and 747-400D series airplanes. For certain airplanes, this AD requires modifying the stowage bin ladder of zone E, installing new intercostals, removing existing tie rods, and installing new tie rods. For certain other airplanes, this AD requires modifying the lateral shear beam. This AD results from a report indicating that the overhead lateral shear beam aft of main entry door number 5 reacts to certain loads from the weight of the center stowage bins of zone E and additional loads. We are issuing this AD to prevent detachment of the center stowage bins of zone E at forward load levels less than 9g during an emergency landing, which could cause injury to passengers and/or crew and could impede subsequent rapid evacuation.

DATES: This AD is effective December 26, 2007.

The Director of the Federal Register approved the incorporation by reference of a certain publication listed in this AD as of December 26, 2007.

We must receive comments on this AD by February 8, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Rene Buendia, Aerospace Engineer, Cabin Safety and Environmental Systems Branch, ANM-150S, FAA, Seattle Aircraft Certification Office, 1601 Lind Avenue, SW., Renton, Washington 98057-3356; telephone (425) 917-6448; fax (425) 917-6590.

SUPPLEMENTARY INFORMATION:

Discussion

We have received a report indicating that a review, at Boeing, of the airplane interior loads on certain Boeing Model 747-400 and 747-400D series airplanes without a door 5 crew rest, showed that the overhead lateral shear beam aft of main entry door number 5 does not meet the 9g forward loading requirement. As a result, the overhead lateral shear beam at that door reacts to loads from the weight of the center stowage bins of zone E and to additional loads due to galleys, life raft boxes, closets, and partitions (depending on airplane configuration). This condition, if not corrected, could result in detachment of the center stowage bins of zone E at forward load levels less than 9g during an emergency landing, which could cause injury to passengers and/or crew and could impede subsequent rapid evacuation.

Relevant Service Information

We have reviewed Boeing Special Attention Service Bulletin 747-53-2498, dated December 19, 2006. For certain airplanes, the service bulletin describes procedures for modifying the stowage bin ladder of zone E by installing new tie rod fittings, installing new right and left intercostals, and removing existing tie rods. For certain other airplanes, the service bulletin describes procedures for modifying the lateral shear beam by installing additional stiffeners. Accomplishing the actions specified in the service information is intended to adequately address the unsafe condition.

FAA's Determination and Requirements of This AD

No airplanes affected by this AD are on the U.S. Register. We are issuing this AD because the unsafe condition described previously is likely to exist or develop on other products of the(se) same type design(s) that could be registered in the United States in the future. This AD requires modifying the stowage bin ladder of zone E, installing new intercostals, removing existing tie rods, and installing new tie rods. For certain other airplanes, this AD requires modifying the lateral shear beam.

Since no airplanes are affected by this AD, notice and opportunity for public comment before issuing this AD are unnecessary.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs for U.S. operators to comply with this AD for any affected airplane that might be imported and placed on the U.S. Register in the future.

Estimated Costs
Action | Work hours | Average labor rate per hour | Parts | Cost per airplane | Number of U.S.- registered airplanes
Modification of the stowage bin ladder, installation of intercostals, and replacement of tie rods (for Group 1 airplanes) | 59 | $80 | $40,107 | $44,827 | 0
Modification of the lateral shear beam (for Group 2 airplanes) | 5 | 80 | 5,091 | 5,491 | 0

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2007-0301; Directorate Identifier 2007-NM-069-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-25-18 Boeing: Amendment 39-15300. Docket No. FAA-2007-0301; Directorate Identifier 2007-NM-069-AD.

Effective Date

(a) This AD becomes effective December 26, 2007.

Affected ADs

(b) None.

Applicability

(c) This AD applies to Boeing Model 747-400 and 747-400D series airplanes, certificated in any category; as identified in Boeing Special Attention Service Bulletin 747-53-2498, dated December 19, 2006.

Unsafe Condition

(d) This AD results from a report indicating that the overhead lateral shear beam aft of main entry door number 5 reacts to certain loads. We are issuing this AD to prevent detachment of the center stowage bins of zone E at forward load levels less than 9g during an emergency landing, which could cause injury to passengers and/or crew and could impede subsequent rapid evacuation.

Compliance

(e) You are responsible for having the actions required by this AD performed within the compliance times specified, unless the actions have already been done.

Modification, Installation, and Replacement

(f) Within 36 months after the effective date of this AD, do the applicable actions required by paragraphs (f)(1) and (f)(2) of this AD by doing all the actions in accordance with the Accomplishment Instructions of Boeing Special Attention Service Bulletin 747-53-2498, dated December 19, 2006.

(1) For Group 1 airplanes, as identified in the service bulletin: Modify the stowage bin ladder of zone E, install new right and left intercostals, and remove existing tie rods and install new tie rods.

(2) For Group 2 airplanes, as identified in the service bulletin: Modify the lateral shear beam.

Alternative Methods of Compliance (AMOCs)

(g)(1) The Manager, Seattle Aircraft Certification Office (ACO), FAA, has the authority to approve AMOCs for this AD, if requested, in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 747-53-2498, dated December 19, 2006, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on November 30, 2007.
Stephen P. Boyd,
Assistant Manager, Transport Airplane Directorate, Aircraft Certification Service.

[FR Doc. E7-23851 Filed 12-7-07; 8:45 am]

BILLING CODE 4910-13-P